DEPARTMENT OF HOMELAND SECURITY

Coast Guard

33 CFR Part 100

[Docket No. USCG-2025-0220]

Special Local Regulations; July Fireworks Events, Cooper River, SC

AGENCY: Coast Guard, DHS.

ACTION: Notification of enforcement of regulation.

SUMMARY: The Coast Guard will enforce special local regulations North Charleston Fireworks and the Patriots Point Fireworks on July 4, 2025; with an alternative date on July 5, 2025. This action is necessary to provide for the safety of life on these navigable waters during marine events. During the enforcement periods, if you are the operator of a vessel in the regulated area you must comply with directions from the COTP Charleston or designated representative.

DATES: The regulations in 33 CFR 100.704 will be enforced for the North Charleston Fireworks and the Patriots Point Fireworks special local regulations listed in Items No. 5 and 6 in Table 1 to § 100.704, from 8 p.m. until 10 p.m. on July 4, 2025; with an alternate rain date from 8 p.m. until 10 p.m. on July 5, 2025.

FOR FURTHER INFORMATION CONTACT: If you have questions about this notification of enforcement, call or email Chief Marine Safety Technician Tyler M. Campbell, Sector Charleston, Waterways Management Division, U.S. Coast Guard; telephone (843) 740-3184, email CharlestonWaterways@uscg.mil.

SUPPLEMENTARY INFORMATION: The Coast Guard will enforce special local regulations in § 100.704 for the North Charleston Fireworks and the Patriots Point Fireworks events listed in Items No. 5 and 6 in Table 1 to § 100.704, from 8 p.m. until 10 p.m. on July 4, 2025; with an alternate rain date from 8 p.m. until 10 p.m. on July 5, 2025.

This action is necessary to provide for the safety of life on these navigable waters during marine events. Our regulations for marine events within the COTP Charleston Zone, Table 1 to § 100.704, Item Numbers 5 and 6, specifies the location of the regulated areas for the North Charleston Fireworks and the Patriots Point Fireworks. During the enforcement periods, as reflected in § 100.704(c), if you are the operator of a vessel in the regulated area you must comply with directions from the COTP Charleston or designated representative.

In addition to this notification of enforcement in the Federal Register, the Coast Guard plans to provide notification of this enforcement period via the Local Notice to Mariners and marine information broadcasts.

F.J. DelRosso,
Captain, U.S. Coast Guard, Captain of the Port Charleston.

[FR Doc. 2025-10689 Filed 6-11-25; 8:45 am]

BILLING CODE 9110-04-P